DEPARTMENT OF COMMERCE

Bureau of the Census

[Docket Number 041029299-4299-01]

Current Industrial Reports

AGENCY: Bureau of the Census, Commerce.

ACTION: Notice and request for comments.

SUMMARY: The Bureau of the Census (Census Bureau) plans to cancel 13 surveys that are part of its Current Industrial Report (CIR) program. The Census Bureau plans to do so in order to redirect its resources to areas of the manufacturing sector that are of increasing importance. The surveys would be canceled on December 31, 2004.

DATES: Written comments on this notice must be submitted on or before December 10, 2004.

ADDRESSES: Direct all written comments to the Director, U.S. Census Bureau, Room 2049, Federal Building 3, Washington, DC 20233.

FOR FURTHER INFORMATION CONTACT: Judy M. Dodds, Assistant Division Chief, Census and Related Programs, Manufacturing and Construction Division, on (301) 763-4587 or by e-mail at judy.m.dodds@census.gov.

SUPPLEMENTARY INFORMATION: The Census Bureau conducts 53 diverse surveys within its CIR program. The data from these surveys serve a wide variety of data users and meet a wide variety of needs. Most of these surveys were started before 1970, and many were started before 1950. While the Census Bureau regularly receives requests to expand the program in order to cover areas that have grown in economic significance, new resources to do that have not been made available. In order to identify resources that might be assigned to areas of the manufacturing sector that are of increasing importance, the Census Bureau conducted a comprehensive review of its CIR program. In that evaluation, the Census Bureau found that it could best serve the broadest group of data users by expanding its collection of information on certain industries, such as electronics equipment, communications equipment, and computers. The only way to accomplish this task without additional resources is to eliminate some existing surveys.

Determining which surveys to eliminate is always a difficult task since there are users of all the data. The Census Bureau made every effort to determine the types of data that are no longer as significant to the overall assessment of our economy or are of lessor quality. Based on that evaluation, the Census Bureau proposes to cancel the following 13 surveys:

• MQ313D, Consumption of the Woolen System.

• MA313F, Yarn Production.

• MA313K, Knit Fabric Production.

• MQ314X, Bed and Bath Furnishings.

• MA315D, Gloves and Mittens.

• MA316A, Footwear.

• MQ325C, Industrial Gases.

• MA327C, Refractories.

• MA331A, Iron and Steel Castings.

• MA331E, Nonferrous Castings.

• M331J, Inventories of Steel Producing Mills.

• MA333L, Internal Combustion Engines.

• MA335H, Motors and Generators.

Canceling the above surveys will be the first step in the restructuring of the CIR program. The next step will be to redesign and expand or reduce individual surveys or groups of surveys. The Census Bureau will conduct that work over the coming year. Those proposals will be submitted through future notices requesting comments. We expect the first proposal to be a quarterly textile survey that consolidates several ongoing textile surveys. We expect that information to be published in January.

Paperwork Reduction Act

Notwithstanding any other provision of law, no person is required to respond to, nor shall a person be subject to a penalty for failure to comply with, a collection of information subject to requirements of the Paperwork Reduction Act (PRA), unless that collection of information displays a current valid Office of Management and Budget (OMB) control number. In accordance with the PRA, 44 U.S.C., Chapter 35, the OMB approved the current group of CIR surveys under OMB Control Numbers 0607-0392, 0607-0395, and 0607-0476. We will provide copies of associated forms and publications upon written request to the Director, U.S. Census Bureau, Washington, DC 20233-0001.

Dated: November 5, 2004.
Charles Louis Kincannon,
Director, Bureau of the Census.

[FR Doc. 04-25105 Filed 11-9-04; 8:45 am]

BILLING CODE 3510-07-P